DEPARTMENT OF AGRICULTURE

Food and Nutrition Service

Agency Information Collection Activities: Proposed Collection; Comment Request Supplemental Nutrition Assistance Program: Form FNS-46, Issuance Reconciliation

AGENCY: Food and Nutrition Service (FNS), USDA.

ACTION: Notice.

SUMMARY: In accordance with the Paperwork Reduction Act of 1995, the Food and Nutrition Service (FNS) is publishing for public comment a summary of a proposed information collection. This is a revision of a currently approved collection for form FNS-46, Issuance Reconciliation Report, which concerns benefit issuance operations in the Supplemental Nutrition Assistance Program (SNAP). The form will be modified and simplified. FNS plans to update the form FNS-46, to capture Disaster Supplemental Nutrition Assistance Program (D-SNAP) benefit issuances and returns data. This form update will ensure D-SNAP data will be more readily available, enabling FNS to respond to requests from multiple agencies on contributions to Federal disaster relief efforts. The form will be simplified since it no longer captures coupon issuances and returns. (Food stamp coupons were deobligated in 2009.) Instead it will summarize Electronic Benefit Transfer (EBT) issuances and returns.

DATES: Written comments must be received on or before November 18, 2013.

ADDRESSES: Comments are invited on: (a) Whether the proposed collection of information is necessary for the proper performance of the functions of the Agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical or other technological collection techniques or other forms of information technology.

Comments may be sent to Shanta Swezy, Chief, Retailer Management and Issuance Branch, Retailer Policy and Management Division, Food and Nutrition Service, U. S. Department of Agriculture, 3101 Park Center Drive, Room 426, Alexandria, VA 22302. Comments may also be faxed to the attention of Ms. Swezy at (703) 305-1863; or via email to: shanta.swezy@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Ms. Elvira May, Program Analyst, Retailer Management and Issuance Branch at (703) 605-1534.

SUPPLEMENTARY INFORMATION: Title: Supplemental Nutrition Assistance Program: Form FNS-46, Issuance Reconciliation.

Form Number: FNS-46.

OMB Number: 0584-0080.

Expiration Date: March 31, 2014.

Type of Request: Revision of a currently approved collection.

Abstract: Section 7(d) of the Food and Nutrition Act of 2008, as amended, (the Act) (7 U.S.C. 2016(d)), requires State agencies to report on their SNAP benefit issuance operations not less than monthly. Section 11(a) of the Act (7 U.S.C. 2020(a)) requires State agencies to assume responsibility for the issuance, control and accountability of SNAP benefits.

Regulations at 7 CFR 274.4(a) and 274.4(b)(2) require State agencies to account for all issuance through the reconciliation process and to submit a report on this process using Form FNS-46, Issuance Reconciliation Report. These reports must be submitted to the Food and Nutrition Service (FNS) monthly and must reach FNS no later than 90 days following the end of each report month. The FNS-46 report reflects the total issuance, returns and unauthorized issuance amounts resulting in the net Federal obligation.

Disaster assistance through SNAP is authorized by sections 402 and 502 of the Robert T. Stafford Disaster Relief and Emergency Assistance Act (42 U.S.C. 5121 et seq.) and the temporary emergency provisions contained in Section 5 of the Food and Nutrition Act of 2008, and in 7 CFR Part 280 of the SNAP regulations. In accordance with 7 CFR 274.4, State agencies shall keep records and report SNAP participation and issuance totals to FNS.

Historically, form FNS-292B, Report of Disaster Supplemental Nutrition Assistance Program Benefit Issuance, has been used by SNAP State agencies to report to FNS, the number of households and persons who were certified for the Disaster SNAP, and also to report the value of benefits issued to those households. Form FNS-292B must be submitted to the agency within 45 days following termination of disaster assistance.

The information collection burden for the FNS-292B, is included in OMB 0584-0037, expiration date July 31, 2014. However, recent evaluation of Federal disaster response efforts has identified a critical need for timely periodic reporting while a disaster response is ongoing. Updating the FNS-46, to include separate reporting of D-SNAP benefit issuance and participation will ensure estimates are available on a monthly basis. Requiring monthly D-SNAP estimates on the FNS-46, will not duplicate any data collection currently in place, as the FNS-292B, serves as a final summary and closeout of the disaster response and is not meant to provide periodic updates.

The update to form FNS-46, is occurring in coordination with an update to form FNS-388, State Issuance and Participation Estimates (OMB 0584-0081, expiration date July 31, 2016). The alignment of these two forms will ensure that the monthly D-SNAP issuances and returns collected on the FNS-46, will have associated and corresponding final issuance reconciliations on the FNS-388.

While we are adding D-SNAP estimates on the FNS-46, we are removing the reporting requirement of paper coupons. Therefore, FNS estimates the burden hours associated with completing the FNS-46 will remain at 4 hours.

Affected Public: State, Local and Tribal Government.

Estimated Number of Respondents: 54.

Estimated Annual Number of Responses per Respondent: 12.

Estimated Total Annual Responses: 648.

Estimated Time per Response: 4.0 hours.

Estimated Total Annual Burden: 2592 hours annually.

Dated: September 10, 2013.
Jeffrey J. Tribiano,
Acting Administrator, Food and Nutrition Service.

[FR Doc. 2013-22572 Filed 9-16-13; 8:45 am]

BILLING CODE 3410-30-P